OFFICE OF THE UNITED STATES TRADE REPRESENTATIVE

China's Acts, Policies, and Practices Related to Technology Transfer, Intellectual Property, and Innovation; Technical Modifications to 301 Action

AGENCY: Office of the United States Trade Representative (USTR).

ACTION: Notice.

SUMMARY: Effective January 27, 2022, the U.S. International Trade Commission (USITC) implemented certain changes to the Harmonized Tariff Schedule of the United States (HTSUS) to conform to amendments adopted by the World Customs Organization. To rectify a technical error and ensure that those amendments do not extend the scope of the additional duties in the Section 301 investigation of China's acts, policies, and practices related to technology transfer, intellectual property, and innovation (China 301 investigation), this notice makes two technical modifications in the HTSUS notes implementing the additional duties.

DATES: The technical modifications in the Annex to this notice are applicable as of January 27, 2022.

FOR FURTHER INFORMATION CONTACT: For general questions about this notice, contact Associate General Counsel Philip Butler or Assistant General Counsel Rachel Hasandras at (202) 395-5725. For specific questions on customs classification or implementation of the product exclusion identified in the Annex to this notice, contact traderemedy@cbp.dhs.gov.

SUPPLEMENTARY INFORMATION:

A. Background

Effective January 27, 2022, the USITC, in accordance with Presidential Proclamation 10326 of December 23, 2021, implemented certain changes in the HTSUS in accordance with its responsibility to update the HTSUS to conform to amendments adopted by the World Customs Organization. These changes subjected HTSUS subheading 2931.49.00 to additional duties in the China 301 investigation.

B. Technical Modifications to China 301 Action

The Annex to this notice makes technical modifications to the HTSUS to correct the error of subjecting HTSUS subheading 2931.49.00 to additional duties in the China 301 investigation. In particular, the Annex makes technical modifications to U.S. notes 20(f) and 20(u) to subchapter III of chapter 99 of the HTSUS, as set out in the Annexes to the notices published at 83 FR 47974 (September 21, 2018), 84 FR 43304 (August 20, 2019), and 84 FR 69447 (December 18, 2019). The technical changes are applicable as of January 27, 2022, which is the same effective date as the HTSUS changes conforming to the World Customs Organization amendments.

Annex

Effective with respect to goods entered for consumption, or withdrawn from warehouse for consumption, on or after 12:01 a.m. eastern standard time on January 27, 2022:

1. U.S. note 20(f) to subchapter III of chapter 99 of the Harmonized Tariff Schedule of the United States (HTSUS) is amended by deleting “2931.49.00”; and

2. U.S. note 20(u) to subchapter III of chapter 99 of the HTSUS is amended:

a. by deleting “2931.39.00”; and

b. by inserting “2931.49.00”, in numerical sequence.

Greta Peisch,
General Counsel, Office of the United States Trade Representative.

[FR Doc. 2022-03701 Filed 2-18-22; 8:45 a.m.]

BILLING CODE 3290-F2-P